DEPARTMENT OF COMMERCE

Economics and Statistics Administration

Decennial Census Advisory Committee

AGENCY: Economics and Statistics Administration, Department of Commerce.

ACTION: Notice of public meeting.

SUMMARY: Pursuant to the Federal Advisory Committee Act, 5 U.S.C. Appendix 2, section 10(a)(b), the Bureau of the Census (Census Bureau) is giving notice of a meeting of the Decennial Census Advisory Committee. The Committee will address issues related to 2010 decennial planning, development, and testing, as well as the American Community Survey and other related decennial programs. Last-minute changes to the schedule are possible, which could prevent us from giving advance notification.

DATES: May 2-3, 2002. On May 2, the meeting will begin approximately 8:45 a.m. and end approximately 5:15 p.m. On May 3, the meeting will begin approximately 8:45 a.m. and end approximately 1:45 p.m.

ADDRESSES: The meeting will be held in the Francis Amasa Walker Conference Center, U.S. Census Bureau, 4700 Silver Hill Road, Federal Office Building 3, Suitland, MD 20746.

FOR FURTHER INFORMATION CONTACT: Jeri Green, Committee Liaison Officer, Department of Commerce, U.S. Census Bureau, Room 3627, Federal Office Building 3, Washington, DC 20233, telephone 301-457-2075, TDD 301-457-2540.

SUPPLEMENTARY INFORMATION: The Decennial Census Advisory Committee is composed of a Chair, Vice-Chair, and up to 40 member organizations, all appointed by the Secretary of Commerce. The Commerce considers the goals of the decennial census and users' needs for information provided by the decennial census. The Committee provides an outside user perspective about how research and design plans for the 2010 decennial census, and the development of the American Community Survey and related programs, will realize those goals and satisfy those needs. The members of the Advisory Committee will draw on their experience with Census 2000 planning and operational processes, results of research studies, test censuses, and results of the Census 2000 evaluation program to provide input on the design and related operations of the 2010 decennial census, the American Community Survey, and other related programs.

A brief period will be set aside at the meeting for public comment. However, individuals with extensive statements for the record must submit them in writing to the Census Bureau Committee Liaison Officer, named above, at least three working days prior to the meeting. Seating is available to the public on a first-come, first-served basis.

The meeting is physically accessible to people with disabilities. Requests for sign language interpretation or other auxiliary aids should be directed to the Census Bureau Committee Liaison Officer.

Dated: March 15, 2002.
Kathleen B. Cooper,
Under Secretary for Economic Affairs, Economics and Statistics Administration.

[FR Doc. 02-6882 Filed 3-21-02; 8:45 am]

BILLING CODE 3510-07-M